ARCHITECTURAL AND TRANSPORTATION BARRIERS COMPLIANCE BOARD

36 CFR Part 1196

[Docket No. 2007-03]

RIN 3014-AA22

Passenger Vessel Emergency Alarms Advisory Committee

AGENCY: Architectural and Transportation Barriers Compliance Board.

ACTION: Notice of intent to establish advisory committee.

SUMMARY: The Architectural and Transportation Barriers Compliance Board (Access Board or Board) proposes to establish a Passenger Vessel Emergency Alarms Advisory Committee (Committee) to make recommendations on issues related to the effectiveness of passenger vessel emergency alarm systems for individuals with hearing loss or deafness. The Access Board invites comments on the proposal to establish the committee and the proposed committee membership.

DATES: Comments and applications should be received by July 25, 2007.

ADDRESSES: You may submit comments and applications, identified by Docket No. 2007-03, by any of the following methods:

• Federal eRulemaking Portal: http://www.regulations.gov. Follow the instructions for submitting comments.

• E-mail: pvag@access-board.gov. Include Docket No. 2007-03 in the subject line of the message.

• Fax: (202) 272-0081.

• Mail or Hand Delivery: Office of Technical and Information Services, Architectural and Transportation Barriers Compliance Board, 1331 F Street, NW., Suite 1000, Washington, DC 20004-1111.

All submissions received must include the agency name and docket number for this rulemaking. Comments will be available for inspection at the above address from 9 a.m. to 5 p.m. on regular business days.

FOR FURTHER INFORMATION CONTACT: Paul Beatty, Office of Technical and Information Services, Architectural and Transportation Barriers Compliance Board, 1331 F Street, NW., Suite 1000, Washington, DC 20004-1111. Telephone number (202) 272-0012 (Voice); (202) 272-0082 (TTY). These are not toll-free numbers. E-mail address: pvag@access-board.gov.

SUPPLEMENTARY INFORMATION: The Architectural and Transportation Barriers Compliance Board (Access Board or Board) ¹ is responsible for developing accessibility guidelines under the Americans with Disabilities Act (ADA) to ensure that newly constructed and altered passenger vessels covered by the law are readily accessible to and usable by individuals with disabilities.

¹ The Access Board is an independent Federal agency established by section 502 of the Rehabilitation Act (29 U.S.C. 792) whose primary mission is to promote accessibility for individuals with disabilities. The Access Board consists of 25 members. Thirteen are appointed by the President from among the public, a majority of whom are required to be individuals with disabilities. The other twelve are heads of the following Federal agencies or their designees whose positions are Executive Level IV or above: The Departments of Health and Human Services, Education, Transportation, Housing and Urban Development, Labor, Interior, Defense, Justice, Veterans Affairs, and Commerce; General Services Administration; and United States Postal Services.

In July 2006, the Access Board made available for public comment revised draft accessibility guidelines for passenger vessels which are permitted to carry more than 150 passengers or more than 49 overnight passengers. 71 FR 38563 (July 7, 2006). The revised draft guidelines will also apply to all ferries and certain tenders which carry 60 or more passengers. The revised draft guidelines are available on the Board's Web site at http://www.access-board.gov/pvaac/revised-draft.htm.

Section V215 of the revised draft guidelines requires that where emergency alarm systems are provided to alert passengers, the alarms in public areas and certain guest rooms must comply with “principles of best practice.” This is similar to a provision in the Americans with Disabilities Act and Architectural Barriers Act Accessibility Guidelines (section 702) that permits fire alarm systems in medical care facilities to be provided in accordance with “industry practice.” An earlier draft of the passenger vessel guidelines in 2004 required emergency alarm systems (both audible and visible) to be permanently installed and to comply with NFPA 72. 69 FR 69244 (November 26, 2004).

Commenters on the earlier draft primarily focused on the desire to allow portable systems with enhanced capabilities as an alternative to requiring permanently installed visible alarms in public areas and in guest rooms required to have communication features. Aside from problems in interfacing visible alarm systems with public address systems over which audible alarms operate, these commenters noted benefits in using portable systems. Many commenters argued that portable systems would allow technological advances to be more rapidly adopted which could provide better information during emergencies than permanently installed visible alarms. Portable systems would also allow more guest rooms to be covered than the two percent proposed in the 2004 draft. The same portable systems could also be used to communicate other information about shipboard activities more effectively to people who are deaf or hard of hearing. The Board is also aware of how employees on passenger vessels play an important role in providing directions and addressing passenger needs during emergencies. The Board pointed out that this heightened role is more analogous to how hospitals notify their patients and is different from most other facilities on land. As technology in this area is rapidly changing, the revised draft proposed that alarm systems comply with principles of best practice to alert passengers.

Passenger vessel operators, individuals with disabilities, and organizations representing the various interest groups commented that the provision was vague and requested additional guidance. The Board agrees that additional guidance would be helpful and proposes to establish a Passenger Vessel Emergency Alarms Advisory Committee (Committee) to assist in this matter. The committee is expected to make recommendations to the Board on the following issues:

(a) Whether current emergency alarm system designs and practices on passenger vessels meet the access needs of individuals with hearing loss or deafness.

(b) Alternative designs or technologies for emergency alarm systems appropriate for use on passenger vessels that meet the access needs of individuals with hearing loss or deafness.

(c) The contents of proposed accessibility guidelines for passenger vessels related to emergency alarm systems.

The following interest groups are likely to be affected by emergency alarm systems on passenger vessels:

• Individuals with hearing loss or deafness and other individuals with disabilities concerned about emergency alarm systems;

• Passenger vessel operators;

• Manufacturers and designers of emergency alarm systems; and

• Voluntary codes and standards groups which address emergency alarms.

The Board proposes to appoint the following organizations to the committee to represent the interests identified above:

• Community Emergency Preparedness Information Network.

• Cruise Lines International Association.

• Epilepsy Foundation.

• Gallaudet University.

• Hearing Access Program.

• Hearing Loss Association of America.

• National Association of the Deaf.

• National Fire Protection Association.

• Passenger Vessel Association.

• Society of Naval Architects and Marine Engineers.

Comments are invited on the proposal to establish the advisory committee and the proposed membership. Organizations that are affected by emergency alarm systems on passenger vessels and believe that their interests will not be adequately represented by the above organizations may apply for membership on the committee. Applications should include the following information: (1) The name of the organization and the interest that the organization proposes to represent; (2) the reasons why the organizations specified above do not adequately represent the interest that the organization proposes to represent; (3) evidence that the person submitting the application is authorized to represent the organization; and (4) a written commitment that the organization would participate on the committee in good faith. There is no specific application form. See ADDRESSES, above, for information on where and how to submit applications.

To be effective, the size of the committee will be limited. Each organization affected by emergency alarm systems on passenger vessels need not have its own representative on the committee. Rather, each interest must be adequately represented and the membership must be fairly balanced.

After reviewing the comments received in response to this notice and any applications for membership, the Board will issue a notice in the Federal Register announcing the establishment of the committee and the committee membership, unless it is determined based on comments that the establishment of the committee would be inappropriate. The first committee meeting is tentatively scheduled for August 15 and 16, 2007 at the Access Board offices in Washington, DC.

The Board expects the committee to hold no more than three meetings and all meetings will be in the Washington, DC area. The meetings will be open to the public. Future committee meetings will be announced in the Federal Register.

The Board will provide staff support to the committee. Members of the committee will not be compensated for their service. The Board may pay travel expenses for a limited number of persons who would otherwise be unable to serve on the committee. Members will not be considered special government employees since they will serve as representatives of their organizations and will not be required to file confidential financial disclosure reports.

Availability of Copies and Electronic Access

Single copies of this publication may be obtained at no cost by calling the Access Board's automated publications order line (202) 272-0080, by pressing 2 on the telephone keypad and then please record your name, address, city, State, zip code, telephone number and request the emergency alarms advisory committee notice. Persons using a TTY should call (202) 272-0082. This document is available in alternate formats upon request. Persons who want this publication in an alternate format should specify the type of format (cassette tape, Braille, large print, or ASCII disk). This document is also available on the Board's Web site (http://www.access-board.gov).

Tricia Mason,
Chair, Architectural and Transportation Barriers Compliance Board.

[FR Doc. E7-12196 Filed 6-22-07; 8:45 am]

BILLING CODE 8150-01-P